FEDERAL COMMUNICATIONS COMMISSION

47 CFR Part 73

[DA 02-3069; MB Docket No. 02-208; RM-10515]

Radio Broadcasting Services; Buttonwillow, CA

AGENCY: Federal Communications Commission.

ACTION: Proposed rule; dismissal.

SUMMARY: This document dismisses the Petition for Rule Making filed by Dangerous Broadcasting, L.P., II, requesting the allotment of Channel 265A to Buttonwillow, California. On October 29, 2002, Dangerous Broadcasting, L.P., II filed a Motion to Withdraw its Petition for Rule Making in this proceeding. This document grants the Motion to Withdraw the Petition for Rule Making filed by Dangerous Broadcasting, L.P., II.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket Nos. 02-208, adopted November 6, 2002, and released November 8, 2002. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

Federal Communications Commission.
John A. Karousos,
Assistant Chief, Audio Division, Media Bureau.

[FR Doc. 02-30513 Filed 12-2-02; 8:45 am]

BILLING CODE 6712-01-P